DEPARTMENT OF ENERGY

Federal Energy Regulatory Commission

Combined Notice of Filings #2

Take notice that the Commission received the following electric corporate filings:

Docket Numbers: EC19-59-000.

Applicants: Crius Energy Corporation, Vistra Energy Corp.

Description: Application for Authorization Under Section 203 of the Federal Power Act, et al. of Crius Energy Corporation, et al.

Filed Date: 2/19/19.

Accession Number: 20190219-5096.

Comments Due: 5 p.m. ET 3/12/19.

Take notice that the Commission received the following electric rate filings:

Docket Numbers: ER17-532-001.

Applicants: PPA Grand Johanna LLC.

Description: Notice of Non-Material Change in Status of PPA Grand Johanna LLC.

Filed Date: 2/19/19.

Accession Number: 20190219-5121.

Comments Due: 5 p.m. ET 3/12/19.

Docket Numbers: ER19-848-001.

Applicants: Arizona Public Service Company.

Description: Tariff Amendment: Service Agreement No. 371—TOUA Revision to be effective 1/1/2019.

Filed Date: 2/19/19.

Accession Number: 20190219-5154.

Comments Due: 5 p.m. ET 3/12/19.

Docket Numbers: ER19-1069-000.

Applicants: Northland Power Energy Marketing (US) Inc.

Description: Baseline eTariff Filing: Application for Market Based Rate to be effective 2/28/2019.

Filed Date: 2/19/19.

Accession Number: 20190219-5099.

Comments Due: 5 p.m. ET 3/12/19.

Docket Numbers: ER19-1070-000.

Applicants: PJM Interconnection, L.L.C.

Description: Tariff Cancellation: Notice of Cancellation of WMPA SA No. 4848; Queue No. AB2-166 to be effective 3/11/2019.

Filed Date: 2/19/19.

Accession Number: 20190219-5107.

Comments Due: 5 p.m. ET 3/12/19.

Docket Numbers: ER19-1071-000.

Applicants: Midcontinent Independent System Operator, Inc.

Description: § 205(d) Rate Filing: 2019-02-19_SA 2894 Ameren-Gibson City GIA (J339 J734) to be effective 2/19/2019.

Filed Date: 2/19/19.

Accession Number: 20190219-5109.

Comments Due: 5 p.m. ET 3/12/19.

Docket Numbers: ER19-1072-000.

Applicants: Entergy Texas, Inc.

Description: § 205(d) Rate Filing: ETI-ETEC Wholesale Distribution Service Agreement to be effective 3/1/2019.

Filed Date: 2/19/19.

Accession Number: 20190219-5125.

Comments Due: 5 p.m. ET 3/12/19.

Docket Numbers: ER19-1073-000.

Applicants: Alta Wind VIII, LLC.

Description: Compliance filing: Baseline Market-Based Rate Tariff Refiling and Request for Administrative Cancel to be effective 10/16/2017.

Filed Date: 2/19/19.

Accession Number: 20190219-5153.

Comments Due: 5 p.m. ET 3/12/19.

Docket Numbers: ER19-1074-000.

Applicants: Brookfield Energy Marketing Inc.

Description: Compliance filing: Baseline Market-Based Rate Tariff Refiling and Request for Administrative Cancel to be effective 10/16/2017.

Filed Date: 2/19/19.

Accession Number: 20190219-5156.

Comments Due: 5 p.m. ET 3/12/19.

Docket Numbers: ER19-1075-000.

Applicants: Brookfield Renewable Energy Marketing U.S.

Description: Compliance filing: Baseline Market-Based Rate Tariff Refiling and Request for Administrative Cancel to be effective 10/16/2017.

Filed Date: 2/19/19.

Accession Number: 20190219-5169.

Comments Due: 5 p.m. ET 3/12/19.

Docket Numbers: ER19-1076-000.

Applicants: Windstar Energy, LLC.

Description: Compliance filing: Baseline Market-Based Rate Tariff Refiling and Request for Administrative Cancel to be effective 10/16/2017.

Filed Date: 2/19/19.

Accession Number: 20190219-5171.

Comments Due: 5 p.m. ET 3/12/19.

Docket Numbers: ER19-1077-000.

Applicants: Wildcat Wind Farm I, LLC.

Description: Baseline eTariff Filing: Reactive Power Compensation Filing to be effective 4/20/2019.

Filed Date: 2/19/19.

Accession Number: 20190219-5182.

Comments Due: 5 p.m. ET 3/12/19.

Docket Numbers: ER19-1078-000.

Applicants: PPA Grand Johanna LLC.

Description: § 205(d) Rate Filing: Revised Market Based Rate Tariff Filing to be effective 2/20/2019.

Filed Date: 2/19/19.

Accession Number: 20190219-5183.

Comments Due: 5 p.m. ET 3/12/19.

Docket Numbers: ER19-1079-000.

Applicants: PJM Interconnection, L.L.C.

Description: Tariff Cancellation: Notice of Cancellation of WMPA SA No. 4847, Queue No. AB2-084 to be effective 4/2/2019.

Filed Date: 2/19/19.

Accession Number: 20190219-5184.

Comments Due: 5 p.m. ET 3/12/19.

The filings are accessible in the Commission's eLibrary system by clicking on the links or querying the docket number.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2019.
Nathaniel J. Davis, Sr.,
Deputy Secretary.

[FR Doc. 2019-03172 Filed 2-22-19; 8:45 am]

BILLING CODE 6717-01-P